DEPARTMENT OF DEFENSE

Defense Information Systems Agency

Privacy Act of 1974; System of Records

AGENCY: Defense Information Systems Agency, DoD.

ACTION: Notice to delete and amend systems of records.

SUMMARY: The Defense Information Systems Agency is proposing to delete three notices and amend one system of records notice in its existing inventory of record systems subject to the Privacy Act of 1974, (5 U.S.C. 552a), as amended.

DATES: This action will be effective on May 24, 2000 unless comments are received that would result in a contrary determination.

ADDRESSES: Send comments to the Privacy Act Officer, Defense Information Systems Agency, CIO/D03A, 3701 N. Fairfax Drive, Arlington, VA 22203-1713.

FOR FURTHER INFORMATION CONTACT: Mr. Tommie Gregg at (703) 696-4331.

SUPPLEMENTARY INFORMATION: The Defense Information Systems Agency systems of records notices subject to the Privacy Act of 1974, (5 U.S.C. 552a), as amended, have been published in the Federal Register and are available from the address above.

The specific changes to the records system being amended are set forth below followed by the notice, as amended, published in their entirety. The proposed amendments are not within the purview of subsection (r) of the Privacy Act of 1974, (5 U.S.C. 552a), as amended, which requires the submission of a new or altered system report.

Dated: April 17, 2000.
L.M. Bynum,
Alternate OSD Federal Register Liaison Officer, Department of Defense.

DELETIONS

KDEC.03

System Name:

Classified Material Receipt Authorization List (February 22, 1993, 58 FR 10562).

Reason:

Records formerly maintained under this system of records notice are now covered under KDEC.02, entitled, Authorization to Sign for Classified Material List.

KDEC.04

System name:

Authority to Review/Sign for Classified Messages at 1918 Communications Center (February 22, 1993, 58 FR 10562).

Reason:

Records formerly maintained under this system of records notice are now covered under KDEC.02, entitled, Authorization to Sign for Classified Material List.

KDEC.05

System name:

Access Listing to Classified Material (NATO) (February 22, 1993, 58 FR 10562).

Reason:

NATO classified documents are no longer delivered to DITCO at Scott Air Force Base, IL. Therefore, the system of records is no longer needed. All records have been destroyed.

AMENDMENT

KDEC.02

System name:

Authorization to Sign for Classified Material List (February 22, 1993, 58 FR 10562).

Changes:

* * * * *

Categories of individuals covered by the system:

Delete entry and replace with ‘Defense Information Technology Contracting Organization (DITCO) personnel who are authorized to review, sign for, receive, and distribute classified materials.’

Categories of records in the system:

Delete entry and replace with ‘Records consist of a letter containing the name, Social Security Number, and grade of individuals authorized to review, sign for, receive, and distribute classified materials.’

Authority for maintenance of the system:

Delete entry and replace with ‘E.O. 10450, as amended; E.O. 10865, as amended; E.O. 12356; and E.O. 9397 (SSN).’

Purpose(s):

Delete entry and replace with ‘Information is used by the Chief, Mission Support Directorate, Code D1, Defense Information Technology Contracting Organization and the Commander, 375 Communications Squadron Communications Center to verify the identity of Defense Information Technology Contracting Organization personnel who review, sign for, receive, and distribute classified materials.’

* * * * *

Storage:

Delete entry and replace with ‘Paper records are stored in a locked file cabinet.’

* * * * *

Safeguards:

Delete entry and replace with ‘Records are accessible only to authorized personnel who are properly screened, cleared, and their duties require them to be in the area where the records are kept.’

Retention and disposal:

Delete entry and replace with ‘The records are destroyed 2 years after the authorization for individuals that have access to classified materials has expired.’

System manager(s) and address:

Delete entry and replace with ‘Chief, Mission Support Directorate, Code DT1, Defense Information Technology Contracting Organization, Building 3600, Scott Air Force Base, IL 62225-5406.’

Notification procedure:

Delete entry and replace with ‘Individuals seeking to determine whether information about themselves is contained in this system should address written inquiries to the Chief, Mission Support Directorate, Defense Information Technology Contracting Organization, Code DT1, 2300 East Drive, Building 3600, Scott Air Force Base, IL 62225-5406.

Individual should furnish their full name, mailing address, and telephone number

For personal visits, individual must present picture identification, such as a current DISA identification badge or a valid driver’s license.’

Record access procedures:

Delete entry and replace with ‘Individuals seeking access to information about themselves contained in this system should address written inquiries to the Chief, Mission Support Directorate, Defense Information Technology Contracting Organization, Code DT1, 2300 East Drive, Building 3600, Scott Air Force Base, IL 62225-5406.

Individual should furnish their full name, mailing address, and telephone number

For personal visits, individual must present picture identification, such as a current DISA identification badge or a valid driver’s license.’

* * * * *

Record source categories:

Delete entry and replace with ‘Names of the individuals in the system are furnished by the Chief, Mission Support Directorate, Code DT1, Defense Information Technology Contracting Division, 2300 East Drive, Building 3600, Scott Air Force Base, IL 62225-5406.’

* * * * *

KDEC.02

System name:

Authorization to Sign for Classified Material List.

System location:

Defense Commercial Communications Office, ATTN: Code RA, 2300 East Drive, Scott Air Force Base, IL 62225-5406.

Categories of individuals covered by the system:

Defense Information Technology Contracting Organization (DITCO) personnel who are authorized to review, sign for, receive, and distribute classified materials.

Categories of records in the system:

Records consist of a letter containing the name, Social Security Number, and grade of individuals authorized to review, sign for, receive, and distribute classified materials.

Authority for maintenance of the system:

E.O. 10450, as amended; E.O. 10865, as amended; E.O. 12356; and E.O. 9397 (SSN).

Purpose(s):

Information is used by the Chief, Mission Support Directorate, Code D1, Defense Information Technology Contracting Organization and the Commander, 375 Communications Squadron Communications Center to verify the identity of Defense Information Technology Contracting Organization personnel who review, sign for, receive, and distribute classified materials.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the DISA’s compilation of systems of records notices apply to this system.

Policies and practices for storing, retrieving, accessing, retaining, and disposing of records in the system:

Storage:

Paper records are stored in a locked file cabinet.

Retrievability:

Information is retrieved by name.

Safeguards:

Records are accessible only to authorized personnel who are properly screened, cleared, and their duties require them to be in the area where the records are kept.

Retention and disposal:

The records are destroyed 2 years after the authorization for individuals that have access to classified materials has expired.

System manager(s) and address:

Chief, Mission Support Directorate, Code DT1, Defense Information Technology Contracting Organization, Building 3600, Scott Air Force Base, IL 62225-5406.

Notification procedure:

Individuals seeking to determine whether information about themselves is contained in this system should address written inquiries to the Chief, Mission Support Directorate, Defense Information Technology Contracting Organization, Code DT1, 2300 East Drive, Building 3600, Scott Air Force Base, IL 62225-5406.

Individual should furnish their full name, mailing address, and telephone number

For personal visits, individual must present picture identification, such as a current DISA identification badge or a valid driver’s license.

Record access procedures:

Individuals seeking access to information about themselves contained in this system should address written inquiries to the Chief, Mission Support Directorate, Defense Information Technology Contracting Organization, Code DT1, 2300 East Drive, Building 3600, Scott Air Force Base, IL 62225-5406.

Individual should furnish their full name, mailing address, and telephone number

For personal visits, individual must present picture identification, such as a current DISA identification badge or a valid driver's license.

Contesting record procedures:

DISA's rules for accessing records, for contesting contents and appealing initial agency determinations are published in DISA Instruction 210-225-2; 32 CFR part 316; or may be obtained from the system manager.

Record source categories:

Names of the individuals in the system are furnished by the Chief, Mission Support Directorate, Code DT1, Defense Information Technology Contracting Division, 2300 East Drive, Building 3600, Scott Air Force Base, IL 62225-5406.

Exemptions claimed for the system:

None.

[FR Doc. 00-10052 Filed 4-21-00; 8:45 am]

BILLING CODE 5001-10-F